Title 3—

The President

Proclamation 7547 of April 26, 2002

National Day of Prayer, 2002

By the President of the United States of America

A Proclamation

Since our Nation's founding, Americans have turned to prayer for inspiration, strength, and guidance. In times of trial, we ask God for wisdom, courage, direction, and comfort. We offer thanks for the countless blessings God has provided. And we thank God for sanctifying every human life by creating each of us in His image. As we observe this National Day of Prayer, we call upon the Almighty to continue to bless America and her people.

Especially since September 11, millions of Americans have been led to prayer. They have prayed for comfort in a time of grief, for understanding in a time of anger, and for protection in a time of uncertainty. We have all seen God's great faithfulness to our country. America's enemies sought to weaken and destroy us through acts of terror. None of us would ever wish on anyone what happened on September 11th. Yet tragedy and sorrow none of us would choose have brought forth wisdom, courage, and generosity. In the face of terrorist attacks, prayer provided Americans with hope and strength for the journey ahead.

God has blessed our Nation beyond measure. We give thanks for our families and loved ones, for the abundance of our land and the fruits of labor, for our inalienable rights and liberties, and for a great Nation that leads the world in efforts to preserve those rights and liberties. We give thanks for all those across the world who have joined with America in the fight against terrorism. We give thanks for the men and women of our military, who are fighting to defend our Nation and the future of civilization.

We continue to remember those who are suffering and face hardships. We pray for peace throughout the world.

On this National Day of Prayer, I encourage Americans to remember the words of St. Paul: “Do not be anxious about anything, but in everything, by prayer and petition, with thanksgiving, present your requests to God.” The Congress, by Public Law 100-307, as amended, has called on our citizens to reaffirm the role of prayer in our society and to honor the religious diversity our freedom permits by recognizing annually a “National Day of Prayer.”

NOW, THEREFORE, I, GEORGE W. BUSH, President of the United States of America, by virtue of the authority vested in me by the Constitution and laws of the United States, do hereby proclaim May 2, 2002, as a National Day of Prayer. I ask Americans to pray for God's protection, to express gratitude for our blessings, and to seek moral and spiritual renewal. I urge all our citizens to join in observing this day with appropriate programs, ceremonies, and activities.

IN WITNESS WHEREOF, I have hereunto set my hand this twenty-sixth day of April, in the year of our Lord two thousand two, and of the Independence of the United States of America the two hundred and twenty-sixth.

B

[FR Doc. 02-10959

Filed 4-30-02; 8:45 am]

Billing code 3195-01-P